DEPARTMENT OF JUSTICE

Notice of Lodging of Consent Decree Pursuant to the Comprehensive Environmental Response, Compensation and Liability Act (“CERCLA”)

Notice is hereby given that a proposed Consent Decree (“Decree”) in United States v. Apex Engineering, et al., Civil Action No. 00 2100 GTV, was lodged on February 28, 2000, with the United States District Court for the District of Kansas.

The complaint filed in the above-referenced matter alleges that Defendants Apex Engineering, Inc.; Cargill, Inc.; Continental Tank Car Corporation; Coastal Refining and Marketing, Inc.; The Coleman Company, Inc.; Farmland Industries, Inc.; Safety-Kleen (Wichita), Inc.; Unified School District No. 259; Union Oil Company of California, d/b/a Unocal; and Van Waters & Rogers Inc., are jointly and severally liable for the United States' response costs at the 29th and Mead Superfund Site (“Site”) in Wichita, Kansas, pursuant to Section 107(a) of CERCLA, 42 U.S.C. 9607(a).

The Site is a 4,000-acre area comprised of various industrial, residential and commercial properties located in north central Wichita, Sedgwick County, Kansas. It has been used primarily for industrial purposes since the late 1880s. EPA discovered volatile organic compound contamination in groundwater beneath the Site in 1983.

Under the proposed Decree, the Defendants in this action, and three additional parties not named in the compliant—the City of Wichita, Kansas; Excel Corporation; and New Coleman Holdings, Inc.—collectively shall pay the United States $245,038.22 plus interest toward the United States' approximately $300,000.00 in unreimbursed response costs at the Site. In exchange, the United States gives all parties to the Decree a covenant not to sue and contribution protection for past response costs.

The Department of Justice will receive, for a period of thirty (30) days from the date of this publication, comments relating to the proposed consent decree. Comments should be addressed to the Assistant Attorney General for the Environment and Natural Resources Division, Department of Justice, 930 Pennsylvania Avenue, NW, Washington, DC 20530, and should refer to United States v. Apex Engineering, et al., DOJ Ref. #90-11-3-06696.

The proposed Decree may be examined at the office of the United States Attorney, District of Kansas, 500 State Avenue, Suite 360, Kansas City, KS 66101, 913-551-6730; and the Region VII Office of the Environmental Protection Agency, 726 Minnesota Avenue, Kansas City, KS 66101, 913-551-7714. A copy of the proposed Decree may also be obtained by mail from the Consent Decree Library, P.O. Box 7611, Washington, DC 20044. In requesting a copy of the Consent Decree, please refer to the referenced case and enclose a check in the amount of $9.50 (25 cents per page reproduction costs), payable to the Consent Decree Library.

Joel M. Gross,
Chief, Environmental Enforcement Section, Environment and Natural Resources Division.

[FR Doc. 00-7295 Filed 3-23-00; 8:45 am]

BILLING CODE 4410-15-M